DEPARTMENT OF ENERGY

Federal Energy Regulatory Commission

Combined Notice of Filings #1

Take notice that the Commission received the following electric corporate filings:

Docket Numbers: EC12-150-000.

Applicants: Wisconsin Electric Power Company.

Description: Application for Authorization for Disposition of Jurisdictional Facilities Pursuant to Federal Power Act Section 203 of Wisconsin Electric Power Company, et al.

Filed Date: 9/28/12.

Accession Number: 20120928-5325.

Comments Due: 5 p.m. ET 10/19/12.

Take notice that the Commission received the following electric rate filings:

Docket Numbers: ER10-1945-002; ER10-1946-002; ER10-1942-006; ER10-2042-008; ER10-1936-002; ER10-1892-002; ER10-1886-002; ER10-1872-002; ER10-1871-002; ER10-1863-002; ER10-1859-002.

Applicants: Auburndale Peaker Energy Center, LLC, Broad River Energy LLC, Calpine Construction Finance Company, LP, Calpine Energy Services, L.P., Carville Energy LLC, Columbia Energy LLC, Decatur Energy Center, LLC, Mobile Energy, LLC, Morgan Energy Center, LLC, Pine Bluff Energy, LLC, Santa Rosa Energy Center, LLC.

Description: Notification of Change in Status of Auburndale Peaker Energy Center, L.L.C., et al.

Filed Date: 9/28/12.

Accession Number: 20120928-5328.

Comments Due: 5 p.m. ET 10/19/12.

Docket Numbers: ER12-1938-001; ER11-3069-003; ER11-3545-002; ER11-3141-003; ER11-3098-003; ER12-1769-003; ER12-75-004; ER12-2251-001; ER12-2252-002; ER12-2253-001.

Applicants: Fairpoint Energy, LLC, Viridian Energy, Inc., Viridian Energy NY LLC, Cincinnati Bell Energy LLC, FTR Energy Services, LLC, Viridian Energy PA, LLC, Public Power, LLC, Public Power & Utility of NY, Inc, Public Power (PA), LLC, Public Power & Utility of Maryland, LLC.

Description: Notice of Non-Material Change in Status of Crius Entities.

Filed Date: 9/28/12.

Accession Number: 20120928-5327.

Comments Due: 5 p.m. ET 10/19/12.

Docket Numbers: ER12-2492-000; ER12-2493-000; ER12-2494-000; ER12-2495-000; ER12-2496-000.

Applicants: Emera Energy Services Subsidiary No. 6 LLC, Emera Energy Services Subsidiary No. 7 LLC, Emera Energy Services Subsidiary No. 8 LLC, Emera Energy Services Subsidiary No. 9 LLC, Emera Energy Services Subsidiary No. 10 LLC.

Description: Emera Energy Services Subsidiary No. 6 LLC, et. al. supplements their Application for Market Based Authority.

Filed Date: 9/27/12.

Accession Number: 20120927-5191.

Comments Due: 5 p.m. ET 10/18/12.

Docket Numbers: ER12-2704-000.

Applicants: San Diego Gas & Electric Company.

Description: San Diego Gas & Electric Company submits request for authorization to recover transmission related cancelled project cost for the TL6942 Sycamore Project.

Filed Date: 9/28/12.

Accession Number: 20120928-0201.

Comments Due: 5 p.m. ET 10/19/12.

Docket Numbers: ER12-2705-000.

Applicants: New England Power Pool Participants Committee.

Description: Oct 2012 Membership Filing to be effective 10/1/2012.

Filed Date: 9/28/12.

Accession Number: 20120928-5232.

Comments Due: 5 p.m. ET 10/19/12.

Docket Numbers: ER12-2706-000.

Applicants: Midwest Independent Transmission System Operator, Inc.

Description: 9-28-12 RAR Gap Filing to be effective 11/28/2012.

Filed Date: 9/28/12.

Accession Number: 20120928-5248.

Comments Due: 5 p.m. ET 10/19/12.

Docket Numbers: ER12-2707-000.

Applicants: PJM Interconnection, L.L.C.

Description: Notice of Cancellation of Service Agreement No. 3163 Docket No. ER12-826-000 to be effective 8/23/2012.

Filed Date: 9/28/12.

Accession Number: 20120928-5251.

Comments Due: 5 p.m. ET 10/19/12.

Docket Numbers: ER12-2708-000.

Applicants: PJM Interconnection, L.L.C., Potomac-Appalachian Highline Transmission.

Description: PATH submits revisions to its Formula Rate for recovery of RTEP abandonment cost to be effective 12/1/2012.

Filed Date: 9/28/12.

Accession Number: 20120928-5257.

Comments Due: 5 p.m. ET 10/19/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 01, 2012.
Nathaniel J. Davis, Sr.,
Deputy Secretary.

[FR Doc. 2012-24736 Filed 10-5-12; 8:45 am]

BILLING CODE 6717-01-P